ENVIRONMENTAL PROTECTION AGENCY

[AD-FRL-6977-5]

RACT/BACT/LAER Clearinghouse: Notice of Public Workshops

AGENCY: Environmental Protection Agency (EPA).

ACTION: Notice of public workshops.

SUMMARY: The EPA operates a clearinghouse of air pollution control technology information known as the Reasonably Available Control Technology (RACT), Best Available Control Technology (BACT), Lowest Achievable Emission Rate (LAER) Clearinghouse (RACT/BACT/LAER Clearinghouse or RBLC). The RBLC has recently received funding needed to implement major improvements and gather missing information. To effectively use these resources, the RBLC needs to communicate with and consider the needs of its users and potential clients. Consequently, several public workshops will be held in 2001 to get user input. The purpose of this notice is to announce the dates and locations of the initial workshops.

DATES: The first two public workshops are scheduled for June 6, 2001 and June 13, 2001. Two additional workshops are under consideration for July 2001 and August 2001.

ADDRESSES: The first workshop will be held in the Ronald Reagan Building in Washington, DC. The second workshop will be held in the EPA's Environmental Research Center in Research Triangle Park, North Carolina. Both workshops will run from 9 a.m. until 5 p.m., Eastern Daylight time, with registration from 8:30 a.m. to 9 a.m. Two other workshops are tentatively scheduled to be held in Denver, Colorado and Chicago, Illinois.

FOR FURTHER INFORMATION CONTACT: The Clean Air Technology Center (CATC) website at http://www.epa.gov/ttn/catc contains detailed information regarding each workshop. Alternatively, you may send an e-mail to catcmail@epa.gov or call the CATC hotline at 919-541-0800 with general questions. A pre-registration form is available on the website. Participants are encouraged to pre-register for the workshops.

SUPPLEMENTARY INFORMATION: The terms RACT, BACT, and LAER indicate emission control and pollution prevention measures required by different provisions of the Clean Air Act. New Source Review (NSR) requirements are case-by-case decisions or determinations based on the requirements of the applicable regulation. The NSR BACT requirements apply to major new and modified sources located in attainment areas (i.e., areas attaining the National Ambient Air Quality Standards (NAAQS)) and subject to Prevention of Significant Air Quality Deterioration (PSD) permitting requirements. The NSR LAER requirements apply to major new and modified sources located in nonattainment areas (i.e., areas that do not meet a NAAQS). Existing sources located in nonattainment areas are subject to RACT requirements. The RACT determinations may also be made on a case-by-case basis, but typically RACT requirements have been prescribed by State and local rules and regulations. The RBLC is primarily a Clearinghouse for air pollution control and pollution prevention technology determinations required for major new and modified sources subject to NSR (BACT & LAER) permitting requirements.

The RBLC will be hosting several public workshops in 2001 to get user input for our efforts to implement improvements to the RBLC. Permitting agency staff represent about one-third of those using the RBLC. The remaining two-thirds of users represent industry, consultants and lawyers preparing NSR permit applications or searching for good technology options for their air pollution abatement problems. The first public workshop will be held in Washington, DC on June 6, 2001. The second public workshop will be held in Research Triangle Park, NC on June 13, 2001. Two other workshops under consideration are tentatively scheduled for Denver, CO in July 2001 and Chicago, IL in August 2001.

Further information regarding the public workshops can be found on EPA's Clean Air Technology Center (CATC) website at http://www.epa.gov/ttn/catc. The website contains the details of the first two workshops (location, agenda, etc.) and will include information on additional workshops after arrangements have been made. We will not publish a separate Federal Register notice to announce future workshops. The website contains a pre-registration form, and we encourage participants to pre-register for the workshops. In addition to the website, you may contact us via e-mail at catcmail@epa.gov or call the CATC hotline at 919-541-0800.

Dated: April 27, 2001.
Thomas C. Curran,
Acting Director, Office of Air Quality, Planning and Standards.

[FR Doc. 01-12046 Filed 5-11-01; 8:45 am]

BILLING CODE 6560-50-P